DEPARTMENT OF THE INTERIOR

National Park Service

[NPS-WASO-NAGPRA-NPS0034594; PPWOCRADN0-PCU00RP14.R50000]

Notice of Inventory Completion: William and Mary, Department of Anthropology, Williamsburg, VA

AGENCY: National Park Service, Interior.

ACTION: Notice.

SUMMARY: The William and Mary, Department of Anthropology has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to William and Mary's Anthropology Department. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to William and Mary's Anthropology Department at the address in this notice by November 10, 2022.

FOR FURTHER INFORMATION CONTACT: Martin Gallivan, Anthropology Department, William and Mary, P.O. Box 8795, Williamsburg, VA 23187-8795, telephone (757) 221-3622, email mdgall@wm.edu.

SUPPLEMENTARY INFORMATION: Notice is here given in accordance with the Native American Graves Protection and Repatriation Act (NAGPRA), 25 U.S.C. 3003, of the completion of an inventory of human remains and associated funerary objects under the control of the William and Mary, Department of Anthropology, Williamsburg, VA. The human remains and associated funerary objects were removed from Charles City, New Kent, Chesterfield, Prince George, and York Counties, VA, and Hampton, VA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by William and Mary's Anthropology Department professional staff in consultation with representatives of the Chickahominy Indian Tribe; Monacan Indian Nation; Nansemond Indian Nation (previously listed as Nansemond Indian Tribe); Pamunkey Indian Tribe; Rappahannock Tribe, Inc.; Upper Mattaponi Tribe; and the Mattaponi Indian Tribe, a non-federally recognized Indian group (hereafter referred to as “The Consulted Tribes and Group”).

History and Description of the Remains

The Anthropology Department's NAGPRA collection is comprised of human remains and associated funerary objects that were removed during excavations conducted at various sites in Virginia from 1967 through 1978. Most of the excavations were carried out as part of the Chickahominy River Survey under the direction of Professors Norm Barka and Ben McCary. The project was designed to identify and investigate the villages of the Chickahominy Indian Tribe that were located along the Chickahominy River in present day Charles City and New Kent Counties.

Chickahominy River Survey—Edge Hill Site (44CC0029)

The removal of the human remains from the Edge Hill Site took place in 1968, during excavations completed as part of the Chickahominy River Survey. Based on three radiocarbon dates the site's occupation was centered on the 13th and 14th centuries A.D. In total, five ossuaries containing 78 individuals and 250 associated funerary objects were uncovered. In addition to the five ossuaries, a dog burial was located near Ossuary 5. Several dog and pig burials were excavated from the sites included in the Chickahominy River Survey. They appear to represent ceremonial events related to the interment of the individuals buried in the ossuaries.

Ossuary 1

In 1968, human remains representing at minimum, 16 individuals were removed from an ossuary burial context at the Edge Hill Site located along the Chickahominy River in Charles City County, VA (Ossuary 1). The human remains belong to two children with ages ranging between 2 and 6 to 8 years; one young adult of undetermined sex; six adult females whose ages range between 18 to 45 years; two adult males whose ages range between 18 and 60 years old; two individuals of undetermined sex; and three individuals of undetermined age and sex. The 26 associated funerary objects include 23 ceramic sherds, one unidentified quartzite projectile point, and two faunal fragments representing white tailed deer. None of these objects appeared to be directly associated with any one individual buried in the ossuary. Their identification as associated funerary objects was determined through consultation with The Consulted Tribes and Group.

Ossuary 2

In 1968, human remains representing at minimum, 10 individuals were removed from an ossuary burial context at the Edge Hill Site located along the Chickahominy River in Charles City County, VA (Ossuary 2). The human remains belong to one infant; one child aged 4-6 years; two adult females whose ages range between 18 and 45 years; one adult male older than 35 years; three adults of undetermined sex; and two individuals of undetermined age and sex. The 36 associated funerary objects include 17 ceramic sherds, 17 lithics (flakes, shatter, and projectile point), and two fragments from faunal remains. None of these objects appeared to be directly associated with any one individual buried in the ossuary. Their identification as associated funerary objects was determined through consultation with The Consulted Tribes and Group.

Ossuary 3

In 1968, human remains representing at minimum, eight individuals were removed from an ossuary burial context at the Edge Hill Site located along the Chickahominy River in Charles City County, VA (Ossuary 3). The human remains belong to three children whose ages range between 2 and 12 years; one young adult female between 17 and 25 years old; one adult female aged older than 45 years; one adult male of undetermined age; and two individuals of undetermined sex and age. The 19 associated funerary objects include 12 ceramic sherds, five lithics (flakes and shatter), and two fragments from faunal remains. None of these objects appeared to be directly associated with any one individual buried in the ossuary. Their identification as associated funerary objects was determined through consultation with The Consulted Tribes and Group.

Ossuary 4

In 1968, human remains representing at minimum, 18 individuals were removed from an ossuary burial context at the Edge Hill Site located along the Chickahominy River in Charles City County, VA (Ossuary 4). The human remains belong to one infant; four children whose ages range between 3 and 10 years; one adolescent male 12-15 years old; one young adult male 16-20 years old; three adult males aged older than 35 years; one young adult female 15-19 years old; three adult females 21-35 years old; two adult females aged older than 35 years; one adult female; and one individual of undetermined sex and age. The 28 associated funerary objects include eight ceramic sherds, 18 lithics (flakes, shatter, biface, projectile point, fire cracked rock), and two fragments from faunal remains. None of these objects appeared to be directly associated with any one individual buried in the ossuary. Their identification as associated funerary objects was determined through consultation with The Consulted Tribes and Group.

Ossuary 5

In 1968, human remains representing at minimum, 26 individuals were removed from an ossuary burial context at the Edge Hill Site located along the Chickahominy River in Charles City County, VA (Ossuary 5). The human remains belong to four infants; six children whose ages range between 2 and 12 years; seven adult females whose ages range between 17 and 54 years; six adult males whose ages range 22 and 60 years; and three individuals of undetermined sex and age. The 141 associated funerary objects include 38 ceramic sherds, 10 lithics (flakes, shatter, and projectile point), five columella shell beads, and 88 fragments from faunal remains of various species including raccoon, white tail deer, turtle, fish, and eastern gray squirrel. Also, near Ossuary 5 was the burial of one dog that contained one plain shell-tempered ceramic sherd. Except for the five columella shell beads, none of these objects appeared to be directly associated with any one individual buried in the ossuary. Their identification as associated funerary objects was determined through consultation with The Consulted Tribes and Group.

Wilcox Neck Site (44CC0030)

Excavations at the Wilcox Neck site began in November of 1967, under the direction of archeologist Leverette Gregory of the Virginia Foundation for Archaeological Research (predecessor to the Virginia Department of Historic Resources). Following Gregory's excavations, investigations at the site continued during the summer of 1968, under the Chickahominy River Survey. The excavations at Wilcox Neck were focused on two ossuary features. Based on both the radiocarbon dating of charcoal recovered from Ossuary 1 and the ceramic seriation dates of the pottery excavated from both ossuaries, this site dates to approximately A.D. 988 through 1100. Together, both ossuaries contained 45 individuals and 92 associated funerary objects.

Ossuary 1

In 1968, human remains representing at minimum, 29 individuals were removed from an ossuary burial context at the Wilcox Neck Site located along the Chickahominy River in Charles City County, VA (Ossuary 1). The human remains belong to two infants; three children whose ages range 3 and 11 years; one adolescent 13-18 years old; one subadult of undetermined sex; one young adult female 17-25 years old; six adult females whose ages range between 21 and 50 years; four possible adult females; one young adult male 17 to 25 years old; one adult male; four adult males whose ages range between 25 and 50 years; one individual aged older than 55 years and of undetermined sex; and four individuals of undetermined sex and age. The 56 associated funerary objects include 27 ceramic sherds and 29 lithics (flakes, fire cracked rock, and Yadkin projectile point). None of these objects appeared to be directly associated with any one individual buried in the ossuary. Their identification as associated funerary objects was determined through consultation with The Consulted Tribes and Group.

Ossuary 2

In 1968, human remains representing at minimum, 16 individuals were removed from an ossuary burial context at the Wilcox Neck Site located along the Chickahominy River in Charles City County, VA (Ossuary 2). The human remains belong to three children whose ages range between 3 and 10 years; five adult females whose ages range between 18 and 60 years; one adult female; five adult males whose ages range between 22 and 60 years; one adult male; and one individual 30-60 years old and of undetermined sex. The 36 associated funerary objects include 16 ceramic sherds and 20 lithics (flakes and fire cracked rock). None of these objects appeared to be directly associated with any one individual buried in the ossuary. Their identification as associated funerary objects was determined through consultation with The Consulted Tribes and Group.

Cypress Banks Site (44CC409)

In 1968, human remains representing, at minimum, two individuals were removed from the Cypress Banks site (44CC409), along the Chickahominy River in Charles City County, VA.

Excavations revealed evidence of a series of dispersed Native settlements spanning the end of the Middle Woodland and the beginning of the Late Woodland periods and dating from approximately A.D. 900 to 1200. Two burials were uncovered during the excavations. Burial 1 contained the primary interment of an adult female 35-45 years old. Burial 2 contained the fragmentary remains of an adult male. No known individuals were identified. No associated funerary objects are present.

Buck Farm Site (44CC0037)

In 1969, human remains representing, at minimum, one individual were removed from a burial at the Buck Farm site (44CC0037), a relatively small, palisaded settlement surrounded by two concentric ditch features constructed and used between A.D. 1200 and 1600, which is located along the Chickahominy River in Charles City County, VA. The human remains belong to an adult male 30-40 years old. No known individual was identified. No associated funerary objects were present in the burial itself, but 11 ceremonial burials of various animals—four pigs, one bird, and six possible dogs—were also excavated. The faunal remains from only five of these ceremonial burials remain in the Department's collection. Burials 1, 2, 3, and 4 each contained pig remains, and Burial 6 contained dog remains.

Clark's Old Neck Site (44CC0043)

In 1969, human remains representing, at minimum, four individuals were removed from Clark's Old Neck site, along the Chickahominy River in Charles City County, VA. The excavations uncovered evidence of Native occupations of the site from the 11th through early 13th centuries A.D. Four adult burials were uncovered at the site as well as five ceremonial dog burials. Burial 1 contained the primary interment of an adult female 20-30 years old. Burial 2 contained the primary interment of an adult male 48-60 years old. Burial 3 contained the secondary internment of an adult female 23-25 years old. Burial 3 appears to be a bundle burial of a female whose bones evidence exposure to smoke and ochre. Burial 4 was uncovered in a disturbed context and contained the remains of an adult female. No known individuals were identified. No associated funerary objects were present in the human burials themselves, but five ceremonial dog burials were uncovered together with 3,100 associated objects that include ceramic sherds, various types of lithics, and pipe fragments.

Maycock Site (44PG0040)

At an unknown date, human remains representing, at minimum, five individuals were removed from the Maycock site (44PG0040), on the south bank of the James River in present-day Prince George County, VA. This village site was occupied by the Weanoc (Weyanoke) community for centuries prior to the arrival of the English in 1607. The Weyanoke were displaced decades later, in the 17th century, due to relentless English encroachment along the James River. Flowerdew Hundred, a colonial plantation, was established in 1618, in proximity to the Weyanoke village. Little information exists regarding the excavation and removal of the human remains from the Maycock Site. Altogether, the human remains of nine individuals were excavated from the site, but only the human remains of five remain in the Anthropology Department's collection. (The human remains of at least three individuals were transferred to the University of Virginia, which holds the Flowerdew Hundred Collection. Those human remains were determined not to be Native American, but instead relate to the history of the plantation.) Burial 2 contained the human remains of a child 6-10 years old. Burial 3 contained only cranial, hand, and rib fragments of the individual. Burial 8 contained the human remains of a young child under the age of 5. Burial 10 contained the human remains of a young adult male 17-25 years old. Burial A contained the human remains of an individual 12-22 years old and of undetermined sex. No known individuals were identified. The one associated funerary object is a ceramic sherd.

Based on archeological, ethnohistorical, and documentary evidence, the Maycock site has been historically affiliated with the Weyanoke Indians. The Weyanoke were a part of the Powhatan Chiefdom that spanned the Tidewater region of Virginia. When they were displaced from the village and the surrounding area in the early 17th century, they were subsumed within other Powhatan-allied tribal communities. Prince George County is the historically and ancestrally documented territory of the Indian Tribes that comprised, and were allied with, the Powhatan Chiefdom. The present-day descendants of these earlier groups include the Chickahominy Indian Tribe, Chickahominy Indian Tribe—Eastern Division, Nansemond Indian Nation, Pamunkey Indian Tribe, Rappahannock Indian Tribe, Upper Mattaponi Indian Tribe, and Mattaponi Indian Tribe.

Grandview Beach, Hampton, Virginia

On an unknown date, human remains representing, at minimum, one individual were removed from the Grandview Beach fishing pier at the end of Beach Road, in the City of Hampton, VA. The human remains were brought to the Department of Anthropology by the Hampton City Police Department who, at the time, reported that, according to oral tradition, a “burial ground” was located in the vicinity of the pier. The human remains—cranial fragments—belong to an individual of undetermined sex and age. No known individual was identified. No associated funerary objects are present.

Based on archeological, ethnohistorical, historical, and oral traditional information, Grandview Beach in Hampton is the territory of the Nansemond Indian Nation. The Nansemond were allied and affiliated with the Powhatan Chiefdom.

Comstock (44CF0020)

In 1966 and 1967, human remains representing, at minimum, three individuals were removed from the Comstock site (44CF0020), in Colonial Heights, Chesterfield County, VA, during excavations led by Leverette Gregory. Also known as Conjurer's Field, this site is located on the west bank of the Appomattox River. The excavations revealed evidence of indigenous occupation going back to the Middle and Late Woodland periods. William and Mary acquired the collection from the Comstock site in 1968. Burial 1 contained the nearly complete skeleton of an adult female 40-45 years old. Burial 2 contained the nearly complete skeleton of an adult female 25-30 years old. Burial 3 contained the partial skeleton of a young adult 15-18 years old and of undetermined sex. No known individual was identified. The five associated funerary objects are one columella bead, one lot of ceramics, one lot of debitage, one lot of fire cracked rock, and one lot of faunal remains.

Based on archeological, ethnohistorical, and documentary evidence, the Comstock Site is located within a geographic area considered to be the ancestral territory of the Appomattox Indians. This community was comprised of Algonquian speakers and was allied to the Powhatan Chiefdom in power in the Tidewater region during the 16th and 17th centuries. The artifacts excavated from the site are consistent with the material culture of Algonquian speaking communities that resided in the Tidewater region. However, Comstock is located near the fall line, which is near the cities of Petersburg and Colonial Heights. The fall line is a naturally occurring boundary that has historically been treated as a border separating the territory of the Indian Tribes that comprised the Monacan to the west, and the allied Tribes of the Powhatan Chiefdom to the east.

Yorktown, York County Virginia

In the 1970s, human remains representing, at minimum, one individual were removed from the Nelson House site, Yorktown, VA, by Dr. Norman Barka, a William and Mary Anthropology Department professor. There is little documentation on the collection history of these human remains. The human remains include part of an amputated (saw cut) lower left arm and hand. Due to the fragmented state of the burial, the age and sex of this individual are undetermined. No known individual was identified. No associated funerary objects are present.

In 1973, human remains representing, at minimum, seven individuals were removed from Hangman's Point (Gallows Point) in Yorktown, VA. Hangman's Point is located atop a prominent bluff that comes to a point overlooking Water Street and the York River. Burial 1 contained the remains of a young adult 16-23 years old and of undetermined sex. Burials 2, 3, and 6 each contained the remains of an adult of undetermined sex. Burial 4 contained the remains of a young adult 17-25 years and of undetermined sex. Burial 5 contained the remains of a young adult 14-21 years old and of undetermined sex. Burial 7 contained the remains of an adult male and represents the most intact skeleton among the seven burials. No known individuals were identified. No associated funerary objects are present.

In 1978, human remains representing, at minimum, one individual were removed from Hangman's Point (Gallows Point) in Yorktown, VA. Hangman's Point is located atop a prominent bluff that comes to a point overlooking Water Street and the York River. The burial contained the remains of an individual of undetermined sex and age. No known individual was identified. No associated funerary objects are present.

In the 1970s, human remains representing, at minimum, one individual were removed from site 12Y in Yorktown, VA. The nearly complete skeleton belongs to an adult male 35-50 years old. No known individual was identified. No associated funerary objects are present.

In 1978, human remains representing, at minimum, six individuals were removed from site 44YO0196, Yorktown Beach, in Yorktown, VA. The site is located below the Victory Monument, a well-known place marker in the town. Burial 1 contained the human remains of a child 7-9 years old and of undetermined sex. Burial 2 contained the human remains of an adolescent 10-16 years old and of undetermined sex. Burial 3 contained the human remains of an adult female 20-35 years old. Burial 4 contained the human remains of a young adult male 17-25 years old. Burials 5 and 6 each contained the human remains of an adult individual of undetermined sex. No known individuals were identified. No associated funerary objects are present.

In 1975, human remains representing, at minimum, one individual were removed from site 44YO0244, Yorktown Beach, in Yorktown, VA. The human remains—a skull—belong to an adult 18-44 years old and of undetermined sex. No known individual was identified. No associated funerary objects are present.

Based on ethnohistorical, historical, ethnographic, archeological, and oral traditional information collected over the last 400 years, York County, VA is the historically and ancestrally documented territory of the Indian Tribes that comprised the Powhatan Chiefdom. The area is located near the geographic and political center of the Powhatan Chiefdom that was formed over several decades during the latter half of the 16th century and the first decade of the 17th century. The Pamunkey, Upper Mattaponi, and Mattaponi Tribes consider the York County area to encompass their ancestral lands.

Determinations Made by the William and Mary, Department of Anthropology

Officials of the William and Mary, Department of Anthropology have determined that:

• Pursuant to 25 U.S.C. 3001(9), the human remains described in this notice represent the physical remains of 156 individuals of Native American ancestry.

• Pursuant to 25 U.S.C. 3001(3)(A), the 348 associated funerary objects 11 ceremonial animal burials, and 3,101 objects associated with the animal burials described in this notice are reasonably believed to have been placed with or near individual human remains at the time of death or later as part of the death rite or ceremony.

• Pursuant to 25 U.S.C. 3001(2), there is a relationship of shared group identity that can be reasonably traced between the Native American human remains and associated funerary objects and the Chickahominy Indian Tribe; Chickahominy Indian Tribe—Eastern Division; Nansemond Indian Nation (previously listed as Nansemond Indian Tribe); Pamunkey Indian Tribe; Rappahannock Tribe, Inc.; and the Upper Mattaponi Tribe (hereafter referred to as “The Tribes”).

Additional Requestors and Disposition

Lineal descendants or representatives of any Indian Tribe or Native Hawaiian organization not identified in this notice that wish to request transfer of control of these human remains and associated funerary objects should submit a written request with information in support of the request to Martin Gallivan, Anthropology Department, William and Mary, P.O. Box 8795, Williamsburg, VA 23187-8795, telephone (757) 221-3622, email mdgall@wm.edu, by November 10, 2022. After that date, if no additional requestors have come forward, transfer of control of the human remains and associated funerary objects to The Tribes may proceed. If joined to a request from one or more of The Tribes, the Mattaponi Indian Tribe, a non-federally recognized Indian group may receive transfer of control of the human remains and associated funerary objects.

The William and Mary, Department of Anthropology is responsible for notifying The Consulted Tribes and Group that this notice has been published.

Dated: September 27, 2022.
Melanie O'Brien,
Manager, National NAGPRA Program.

[FR Doc. 2022-22038 Filed 10-7-22; 8:45 am]

BILLING CODE 4312-52-P